DEPARTMENT OF HOMELAND SECURITY

Coast Guard

33 CFR Part 117

[CGD05-05-079]

RIN 1625-AA09

Drawbridge Operation Regulations; New Jersey Intracoastal Waterway, Manasquan River; Correction

AGENCY: Coast Guard, DHS.

ACTION: Temporary final rule; correction.

SUMMARY: The Coast Guard published in the Federal Register of March 1, 2006, a temporary final rule amending bridge regulations. That rule contained the wrong effective date. This document corrects that error.

DATES: This correction is effective on April 24, 2006.

FOR FURTHER INFORMATION CONTACT: Gary Heyer, Bridge Management Specialist, Fifth Coast Guard District, at (757) 398-6629.

SUPPLEMENTARY INFORMATION: The Coast Guard published in the Federal Register of March 1, 2006, a temporary final rule amending bridge regulations. That rule contained the wrong effective date. This document corrects that error.

In rule FR Doc. 06-1815 published on March 1, 2006, (71 FR 10433) make the following correction. On page 10433, in the third column, change the DATES section to read as follows: This temporary final rule is effective from April 17, 2006, through March 1, 2009.

Dated: March 14, 2006.
Larry L. Hereth,
Rear Admiral, U.S. Coast Guard, Commander, Fifth Coast Guard District.

[FR Doc. 06-2873 Filed 3-23-06; 8:45 am]

BILLING CODE 4910-15-P